LIBRARY OF CONGRESS

U.S. Copyright Office

[Docket No. 2015-7]

Section 512 Study: Notice of Location Change for New York Public Roundtables

AGENCY: U.S. Copyright Office, Library of Congress.

ACTION: Notice of location change for New York public roundtables.

SUMMARY: The United States Copyright Office has changed the location of the May 2 and 3, 2016 public roundtables on the section 512 study. The public roundtables in New York and California were originally announced in the Office's Notice of Inquiry on March 18, 2016. See 81 FR 14896. The May 2 and 3, 2016 public roundtables in New York will now be held in Room 506 of the Thurgood Marshall United States Courthouse, 40 Centre Street, New York, New York, 10007.

DATES AND ADDRESSES: The New York roundtable will take place on May 2 and 3, 2016, from 9:00 a.m. to 5:00 p.m. on both days, and will be held in Room 506 of the Thurgood Marshall United States Courthouse, 40 Centre Street, New York, New York, 10007.

FOR FURTHER INFORMATION CONTACT: Jacqueline C. Charlesworth, General Counsel and Associate Register of Copyrights, jcharlesworth@loc.gov; or Karyn Temple Claggett, Director of the Office of Policy and International Affairs and Associate Register of Copyrights, kacl@loc.gov. Both can be reached by telephone at 202-707-8350.

SUPPLEMENTARY INFORMATION: On December 31, 2015, the Copyright Office issued a Notice of Inquiry seeking public comment on thirty topics concerning the efficiency and effectiveness of section 512 of Title 17. See 80 FR 81862. The Office then issued an NOI on March 18, 2016 announcing two two-day public roundtables on section 512 to be held in New York, New York on May 2 and 3, 2016, and Stanford, California on May 12 and 13, 2016. See 81 FR 14896. Interested members of the public were directed to submit participation requests through forms posted on the Office's Web site no later than April 11, 2016.

Due to the significant level of interest in the proceeding, the Office has decided to move the location of the New York roundtable to Room 506 of the Thurgood Marshall United States Courthouse, 40 Centre Street, New York, New York 10007.

Please note that the roundtable hearing rooms, in New York and California, will have a limited number of seats for participants and observers. For individuals who wish to observe a roundtable, the Office will provide public seating on a first-come, first-served basis on the days of the roundtables.

Individuals selected for participation in one or more of the roundtable sessions will be notified directly by the Office. For additional information about the specific topics to be covered at the roundtables, please see http://copyright.gov/policy/section512/public-roundtable/participate-request.html.

Dated: April 15, 2016.
Maria A. Pallante,
Register of Copyrights, U.S. Copyright Office.

[FR Doc. 2016-09175 Filed 4-19-16; 8:45 am]

BILLING CODE 1410-30-P